DEPARTMENT OF ENERGY

Federal Energy Regulatory Commission

Combined Notice of Filings #1

Take notice that the Commission received the following electric rate filings:

Docket Numbers: ER10-2756-008; ER10-2718-034; ER10-2719-034; ER17-424-005.

Applicants: Griffith Energy LLC, Footprint Power Salem Harbor Development, L.P., East Coast Power Linden Holding, L.L.C., Cogen Technologies Linden Venture, L.P.

Description: Supplement to October 30, 2019 Notice of Non-Material Change in Status of Griffith Energy LLC, et al.

Filed Date: 1/29/20.

Accession Number: 20200129-5173.

Comments Due: 5 p.m. ET 2/19/20.

Docket Numbers: ER11-47-009; ER11-41-009; ER11-46-012; ER12-1540-007; ER12-1541-007; ER12-1542-007; ER12-1544-007; ER12-2343-007; ER13-1896-013; ER14-594-011; ER16-323-005; ER17-1930-001; ER17-1931-001; ER17-1932-001.

Applicants: Appalachian Power Company, Indiana Michigan Power Company, Kentucky Power Company, Kingsport Power Company, Wheeling Power Company, Public Service Company of Oklahoma, AEP Texas Inc., Southwestern Electric Power Company, Ohio Power Company, AEP Energy Partners, Inc., AEP Retail Energy Partners LLC, AEP Energy, Inc., AEP Generation Resources Inc., Ohio Valley Electric Corporation.

Description: Second Supplement (Market Power Screens) to June 26, 2016 Updated Market Power Analysis in the Southwest Power Pool balancing area authority of the AEP MBR affiliates.

Filed Date: 1/22/20.

Accession Number: 20200122-5140.

Comments Due: 5 p.m. ET 2/12/20.

Docket Numbers: ER11-3050-004.

Applicants: FirstEnergy Corp.

Description: Notice of change in status of FirstEnergy Companies.

Filed Date: 1/30/20.

Accession Number: 20200130-5238.

Comments Due: 5 p.m. ET 2/20/20.

Docket Numbers: ER20-335-001.

Applicants: McKenzie Electric Cooperative, Inc.

Description: Tariff Amendment: Request to Hold Proceedings in Abeyance to be effective 12/31/9998.

Filed Date: 1/31/20.

Accession Number: 20200131-5084.

Comments Due: 5 p.m. ET 2/21/20.

Docket Numbers: ER20-917-000.

Applicants: Southwestern Electric Power Company.

Description: § 205(d) Rate Filing: SWEPCO-NTEC Murvaul Delivery Point Agreement to be effective 1/24/2020.

Filed Date: 1/30/20.

Accession Number: 20200130-5138.

Comments Due: 5 p.m. ET 2/20/20.

Docket Numbers: ER20-918-000.

Applicants: Southwest Power Pool, Inc.

Description: § 205(d) Rate Filing: Attachment V Revisions to Include Request for Information to Analyze ESRs to be effective 4/1/2020.

Filed Date: 1/31/20.

Accession Number: 20200131-5042.

Comments Due: 5 p.m. ET 2/21/20.

Docket Numbers: ER20-919-000.

Applicants: Duke Energy Carolinas, LLC.

Description: § 205(d) Rate Filing: DEF Revisions to Joint OATT Schedules 1, 2, 3, 3A, 5 and 6 to be effective 4/1/2020.

Filed Date: 1/31/20.

Accession Number: 20200131-5049.

Comments Due: 5 p.m. ET 2/21/20.

Docket Numbers: ER20-920-000.

Applicants: Midcontinent Independent System Operator, Inc., Entergy Mississippi, Inc.

Description: § 205(d) Rate Filing: 2020-01-31_Cancellation of SA 869 Entergy-GenOn LGIA to be effective 2/1/2020.

Filed Date: 1/31/20.

Accession Number: 20200131-5051.

Comments Due: 5 p.m. ET 2/21/20.

Docket Numbers: ER20-921-000.

Applicants: Southwest Power Pool, Inc.

Description: § 205(d) Rate Filing: 3620 Kansas Municipal Energy Agency NITSA NOA to be effective 1/1/2020.

Filed Date: 1/31/20.

Accession Number: 20200131-5062.

Comments Due: 5 p.m. ET 2/21/20.

Docket Numbers: ER20-922-000.

Applicants: New York Independent System Operator, Inc.

Description: Request for Waiver of New York Independent System Operator, Inc.

Filed Date: 1/30/20.

Accession Number: 20200130-5232.

Comments Due: 5 p.m. ET 2/20/20.

Docket Numbers: ER20-923-000.

Applicants: New England Power Pool Participants Committee.

Description: § 205(d) Rate Filing: Feb 2020 Membership Filing to be effective 2/1/2020.

Filed Date: 1/31/20.

Accession Number: 20200131-5086.

Comments Due: 5 p.m. ET 2/21/20.

Docket Numbers: ER20-924-000.

Applicants: PacifiCorp.

Description: § 205(d) Rate Filing: OATT Queue Reform to be effective 4/1/2020.

Filed Date: 1/31/20.

Accession Number: 20200131-5112.

Comments Due: 5 p.m. ET 2/21/20.

Docket Numbers: ER20-925-000.

Applicants: Alabama Power Company.

Description: § 205(d) Rate Filing: SEPA Network Agreement Amendment Filing (Revision No. 7) to be effective 1/1/2020.

Filed Date: 1/31/20.

Accession Number: 20200131-5176.

Comments Due: 5 p.m. ET 2/21/20.

Docket Numbers: ER20-926-000.

Applicants: Middletown Cogeneration Company LLC.

Description: § 205(d) Rate Filing: Notice of Succession to be effective 1/1/2020.

Filed Date: 1/31/20.

Accession Number: 20200131-5177.

Comments Due: 5 p.m. ET 2/21/20.

Docket Numbers: ER20-927-000.

Applicants: Ameren Illinois Company.

Description: § 205(d) Rate Filing: Reimbursement Agreement, RS 152, Prairie Power Griggsville to be effective 4/1/2020.

Filed Date: 1/31/20.

Accession Number: 20200131-5178.

Comments Due: 5 p.m. ET 2/21/20.

Docket Numbers: ER20-928-000.

Applicants: Southwest Power Pool, Inc.

Description: § 205(d) Rate Filing: East Texas Cooperatives Stated Rate Revisions to be effective 4/1/2020.

Filed Date: 1/31/20.

Accession Number: 20200131-5183.

Comments Due: 5 p.m. ET 2/21/20.

Docket Numbers: ER20-929-000.

Applicants: Haverhill Cogeneration Company LLC.

Description: § 205(d) Rate Filing: Notice of Succession to be effective 1/1/2020.

Filed Date: 1/31/20.

Accession Number: 20200131-5185.

Comments Due: 5 p.m. ET 2/21/20.

Docket Numbers: ER20-930-000.

Applicants: South Carolina Generating Company, Inc.

Description: Baseline eTariff Filing: GENCO Unit Power Sales Agreement to be effective 1/31/2020.

Filed Date: 1/31/20.

Accession Number: 20200131-5190.

The filings are accessible in the Commission's eLibrary system by clicking on the links or querying the docket number.

Any person desiring to intervene or protest in any of the above proceedings must file in accordance with Rules 211 and 214 of the Commission's Regulations (18 CFR 385.211 and 385.214) on or before 5:00 p.m. Eastern Time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 31, 2020.
Kimberly D. Bose,
Secretary.

[FR Doc. 2020-02577 Filed 2-7-20; 8:45 am]

BILLING CODE 6717-01-P